DEPARTMENT OF COMMERCE

National Oceanic and Atmospheric Administration

[RTID 0648-XC151]

Magnuson-Stevens Fishery Conservation and Management Act; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application modification from Blue Planet Strategies contains all of the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before August 1, 2022.

ADDRESSES: You may submit written comments by the following method:

• Email: NMFS.GAR.EFP@noaa.gov. Include in the subject line “Comments on Blue Planet Strategies EFP.” If you cannot submit a comment through this method, please contact Allison Murphy at (978) 281-9122, or email at allison.murphy@noaa.gov.

FOR FURTHER INFORMATION CONTACT: Allison Murphy, Fishery Policy Analyst, 978-281-9122, allison.murphy@noaa.gov.

SUPPLEMENTARY INFORMATION: Blue Planet Strategies was issued an exempted fishing permit (EFP) request on September 7, 2021. The purpose of this project is to test technologies for sub-surface gear marking and gear tracking technologies and prototypes for acoustic release of bottom stowed lift bags or vertical lines for retrieving fishing gear used in the New England groundfish, monkfish, and American lobster and Jonah crab fisheries for the purpose of reducing buoy line interactions with marine mammals. For 2022, this EFP authorized up to 12 participating vessels in 2022 to test ropeless systems in the Gulf of Maine Regulated Mesh Area (gillnet) and Lobster Management Areas 1 and 3 (lobster trap/pot). Blue Planet Strategies was granted exemptions from the following requirements:

1. Gear marking requirements at 50 CFR 697.21(b)(2) to allow for the use of a single buoy marker on a trawl of more than three traps; and

2. Gear marking requirements at § 648.84(b) to allow for the use of a single buoy marker on a gillnet.

One end of both the gillnet and lobster trap gear is required to be marked according to regulations, the other end will test a lift bag system or a stowed rope system, or a spooled rope system. Both gillnet and lobster gear will test either acoustic or modem gear marking technology. A maximum of 140 gillnet deployments were expected in 2022, with a soak time of 96 hours. A maximum of 800 lobster trap deployments were expected in 2022, with a maximum soak time of 4-8 days. Sampling is expected to largely occur from June through October in both 2021 and 2022, though the permit is approved through December 2022.

Blue Planet Strategies submitted a request to revise the EFP on June 21, 2022. Investigators wish to add one additional vessel that operates out of Chatham, Massachusetts and fishes in the Georges Bank Regulated Mesh Area (statistical area 521) and Southern New England Regulated Mesh Area (statistical area 538). Therefore, investigators have requested a geographic expansion of the gillnet effort. No additional gear deployments are expected.

Investigators also request to modify the exemption from gear marking requirements at 50 CFR 697.21(b)(2) to allow for the use of no surface markings within a discrete portion of Area 1. Investigators wish to test the feasibility of using fully on-demand gear within the shipping channel known as the “Southern Channel” or “Southern Route” in Frenchman Bay (Downeast Maine). This new work is expected to account for approximately 100 of the 800 deployments approved in 2022 (i.e., no new effort will result from this modification). In addition to informing work to reduce the potential for entanglements, this research could help determine whether ropeless gear could allow fishermen to prosecute the fishery in shipping channels that are presently kept clear of fishing gear that uses vertical lines and buoys, minimizing the risk of gear conflict.

If approved, Blue Planet Strategies may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: July 11, 2022.
Jennifer M. Wallace,
Acting Director, Office of Sustainable Fisheries, National Marine Fisheries Service.

[FR Doc. 2022-15186 Filed 7-14-22; 8:45 am]

BILLING CODE 3510-22-P